SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA. Fax: 202-395-6974.

(SSA), Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. 20 Day Letter to Representative-Claimant's Benefits Withheld—20 CFR 404.1720, 404.1725, 404.1730(b), 404.1730(c)(2)(i) and (ii), 416.1520, 416.1525, 416.1530(b)—0960-NEW. In a favorable decision where there are past-due benefits, SSA withholds a portion of those benefits for potential direct payment to a representative. 20 CFR 404.1730(c)(2)(i) requires a representative to make a timely request for fee approval if the representative wishes to receive direct payment. As a courtesy, SSA sends this letter to a representative before releasing withheld funds to the claimant. Respondents are representatives who wish to receive direct payment.

Type of Request: Collection in Use Without OMB Number.

Number of Respondents: 1,000.

Frequency of Response: 1.

Average Burden Per Response: 5 minutes.

Estimated Annual Burden: 83 hours.

2. Recommendation for Fee Greater Than $7000—Referral to Regional Chief Administrative Law Judge—20 CFR 404.1720, 404.1725, 404.1730(b), 404.1730(c)(2)(i) and (ii), 416.1520, 416.1525, 416.1530(b)—0960-NEW. This letter refers an ALJ's recommendation on a fee petition to a Regional Chief Administrative Law Judge (RCALJ) with a courtesy copy to the representative. The RCALJ, who is an SSA employee, will subsequently inform the representative of the approved fee. Respondents are representatives with fee petitions greater than $7000.

Type of Request: Collection in Use Without OMB Number.

Number of Respondents: 1,000.

Frequency of Response: 1.

Average Burden Per Response: 1 minute.

Estimated Annual Burden: 17 hours.

3. Request for DDS Assistance in Obtaining Consultative Examination—20 CFR 404.1512, 404.1513(a), (b) and (e), 404.1514, 404.1517, 404.1546, 416.912, 416.913(a), (b) and (e), 416.917, 416.946—0960-NEW. SSA requires that consultative examinations be scheduled through the state DDSs. When an ALJ believes a CE is required, this form is used to transmit the request, and a courtesy status letter is sent to the claimant. Respondents are claimants requesting DDS assistance in obtaining consultative examinations.

Type of Request: Collection in Use Without OMB Number.

Number of Respondents: 102,000.

Frequency of Response: 1.

Average Burden Per Response: 35 minutes.

Estimated Annual Burden: 59,500 hours.

4. Request for Evidence from Doctor or Hospital—20 CFR 404.1512, 404.1513(a), (b), and (e), 404.1514, 416.912, 416.913(a), (b) and (e), 416.914—0960-NEW. Claimants are required to provide medical evidence of their impairment(s) in pursuing a disability claim. SSA uses these forms to request medical evidence from sources (doctors and hospitals) where the claimant has been treated, seen or otherwise evaluated. Respondents are doctors and hospitals where the claimant has been evaluated.

Type of Request: Collection in Use Without OMB Number.

Number of Respondents: 20,000.

Frequency of Response: 20.

Average Burden Per Response: 15 minutes.

Estimated Annual Burden: 100,000 hours.

5. Request for School Records—20 CFR part 416, subpart I, 416.906, 416.913, 416.946, 404, subpart P, Appendix 1—0960-NEW. School records are pertinent evidence in a childhood claim for disability benefits. ALJs use this for to request that evidence. This letter will be used to request school records from the school(s) which the claimant has attended for evidence relative to the claimant's impairments or ability to do age-appropriate activities. Respondents are the school(s) which the claimant has attended.

Type of Request: Collection in Use Without OMB Number.

Number of Respondents: 10,000.

Frequency of Response: 6.

Average Burden Per Response: 30 minutes.

Estimated Annual Burden: 30,000 hours.

6. 20 CFR part 429, subpart 100, Filing Claims Under the Federal Tort Claims Act—20 CFR 429.101-429.110—0960-0667. SSA uses the information provided to investigate and determine whether to make an award, compromise, or settlement under the Federal Tort Claims Act (FTCA). The information is only used by those Agency employees who need the information in the scope of their official duties. The respondents are individuals/entities making a claim under the FTCA.

Type of Request: Extension of an OMB-approved information collection.

Section | Annual number of responses | Frequency of response | Average burden per response (minutes) | Estimated annual burden hours
429.102; 429.103 | 1 | 1 | 1 | 1
429.104(a) | 30 | 1 | 5 | 2.5
429.104(b) | 25 | 1 | 5 | 2
429.104(c) | 2 | 1 | 5 | .16
429.106(b) | 10 | 1 | 10 | 1.6

Total Estimated Annual Burden: 7 hours

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Application for Mother's or Father's Insurance Benefits—20 CFR 404.339-404.342, 20 CFR 404.601-404.603—0960-0003. SSA collects the information on the SSA-5-F6 to entitle an individual to his/her mother's and father's insurance benefits. The respondents are individuals applying for entitlement to their mothers' or fathers' benefits.

Type of Request: Revision of an OMB-approved information collection.

Number of Respondents: 50,000.

Frequency of Response: 1.

Average Burden Per Response: 15 minutes.

Estimated Annual Burden: 12,500 hours.

2. Missing and Discrepant Wage Reports Letter and Questionnaire—26 CFR 31.6051-2—0960-0432. Each year employers report the wage amounts they paid their employees to IRS for tax purposes, and, separately, to SSA for retirement and disability coverage purposes. These amounts should be the same; however, each year many employer wage reports received by SSA are less than those reported to IRS. Through Forms SSA-L93, 95, and 97, SSA attempts to reconcile the amounts to ensure employees receive full credit. The respondents are employers who reported less wage amounts to SSA than they did to IRS.

Type of Request: Extension of an OMB-approved information collection.

Number of Respondents: 359,999.

Frequency of Response: 1.

Average Burden Per Response: 30 minutes.

Estimated Annual Burden: 180,000 hours.

3. Marital Relationship Questionnaire—20 CFR 416.1826—0960-0460. Form SSA-4178 provides a nationally uniform vehicle for collection of information to determine for Supplemental Security Income (SSI) purposes whether unrelated individuals of the opposite sex who live together are holding themselves out to the public as husband and wife. The information is necessary to determine whether correct payment is being made to SSI couples and individuals. The respondents are applicants for, and recipients of, SSI benefits.

Type of Request: Extension of an OMB-approved information collection.

Number of Respondents: 5,100.

Frequency of Response: 1.

Average Burden Per Response: 5 minutes.

Estimated Annual Burden: 425 hours.

4. Information Collection Requirements for Title VIII of the Social Security Act—20 CFR 408.202(d), 408.210, 408.230(a), 408.232(a), 408.320, 408.305, 408.310, 408.315, 408.340, 408.345, 408.351(d) and (f), 408.355(a), 408.360(a), 408.404(c), 408.410, 408.412, 408.420(a) and (b), 408.430, 408.432, 408.435(a) and (b), 408.437(b), (c) and (d)—0960-0658. Section 251 of the “Foster Care Independence Act of 1999” added Title VIII to the Social Security Act (Special Benefits for Certain World War II Veterans). Title VIII allows, under certain circumstances, the payment of a monthly benefit by the Commissioner of Social Security to a qualified World War II veteran who resides outside the United States. The accompanying regulations set out the requirements an individual must meet in order to qualify for and become entitled to Special Veterans Benefits (SVB). The respondents are individuals who are applying for benefits under Title VIII of the Social Security Act.

Section number | Number of respondents | Frequency of response | Average burden per response (hrs.) | Estimated annual hour burden
§ 408.202(d); § 408.210; § 408.230(a); § 408.305; §§ 408.310-.315 | 1 | 1 | 1 | 1
§ 408.232(a) | 5 | 1 | .25 | 1.25
§ 408.320 | 5 | 1 | .25 | 1.25
§ 408.340 | 5 | 1 | .25 | 1.25
§ 408.345 | 2 | 1 | .25 | .50
§ 408.351(d) & (f) | 2 | 1 | .50 | 1
§ 408.355(a) | 5 | 1 | .25 | 1.25
§ 408.360(a) | 2 | 1 | .25 | .50
§ 408.404(c) | 20 | 1 | .25 | 5
§§ 408.410-412 | 20 | 1 | .25 | 5
§ 408.420(a), (b) | 230 | 1 | .25 | 58
§§ 408.430 & .432 | 215 | 1 | .50 | 108
§ 408.435(a), (b),(c) | 230 | 1 | .25 | 58
§ 408.437(b), (c),(d) | 20 | 1 | .50 | 10

Total Estimated Annual Burden: 252 hours.

Dated: December 7, 2005.
Elizabeth A. Davidson,
Reports Clearance Officer, Social Security Administration.

[FR Doc. E5-7242 Filed 12-12-05; 8:45 am]

BILLING CODE 4191-02-P